DEPARTMENT OF COMMERCE

National Oceanic and Atmospheric Administration

[I.D. 061402C]

Gulf of Mexico Fishery Management Council; Public Meetings; Correction

AGENCY: National Marine Fisheries Service (NMFS), National Oceanic and Atmospheric Administration (NOAA), Commerce.

ACTION: Notice of public meeting; correction.

SUMMARY: The Gulf of Mexico Fishery Management Council published a document in the Federal Register of June 24, 2002, convening public meetings. The document contained insufficient data. This document provides additional important information concerning these meetings..

DATES: The meetings will be held on July 8-12, 2002.

ADDRESSES: These meetings will be held at the Hyatt Sarasota Hotel, 1000 Boulevard of the Arts, Sarasota, FL 34236; telephone: 941-953-1234.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Correction

In 67 FR Doc. 02-15885 of June 24, 2002, on page 42547, in the second column, add the following information under the last entry for July 12, 2002, “Other Business” to read as follows:

11:45-12 noon—Other Business.

The Council will consider a request from the South Atlantic Fishery Management Council (SAFMC) to the Secretary of Commerce that the SAFMC be allowed to have their own Dolphin/Wahoo Fishery Management Plan.

Dated: June 24, 2002.
Theophilus R. Brainerd,
Acting Director, Office of Sustainable Fisheries, National Marine Fisheries Service.

[FR Doc. 02-16280 Filed 6-26-02; 8:45 am]

BILLING CODE 3510-22-S